DEPARTMENT OF THE INTERIOR

Bureau of Indian Affairs

Draft Environmental Impact Statement for the Proposed Riverton Dome Coal Bed Natural Gas and Conventional Gas Development, Wind River Indian Reservation, Fremont County, WY

AGENCY: Bureau of Indian Affairs, Interior.

ACTION: Notice.

SUMMARY: This notice advises the public that the Bureau of Indian Affairs, in cooperation with the Joint Business Council of the Eastern Shoshone and Northern Arapaho Tribes (JBC), Bureau of Land Management and U.S. Environmental Protection Agency (EPA), intends to file a Draft Environmental Impact Statement (DEIS) at EPA for the proposed coal bed natural gas and conventional gas development project, and that the DEIS is now available for public review. The purpose of the proposed action is to meet the Eastern Shoshone and Northern Arapaho Tribes' need to maximize their economic benefit from this trust resource. This notice also announces a public hearing to receive comments on the DEIS.

DATES: Written comments on the DEIS must arrive by January 2, 2008.

The public hearing will be held November 28, 2007, starting at 7 p.m. and continuing until all those who register to make statements have been heard.

ADDRESSES: You may mail or hand carry written comments to Ray Nation, Bureau of Indian Affairs, Wind River Agency, P.O. Box 158, Fort Washakie, Wyoming 82514.

The public hearing will be held at St. Stephens Indian School, 134 Mission Road, St. Stephens, Wyoming.

You may obtain CD or paper copies of the DEIS by contacting Ray Nation at the address above or the telephone number below.

FOR FURTHER INFORMATION CONTACT: Ray Nation, (307) 332-3718.

SUPPLEMENTARY INFORMATION: The Riverton Dome Project Area is located on the Wind River Indian Reservation, approximately five miles southeast of Riverton, Wyoming, in Township 1S, Range 4E, Sections 13, 14, 23, 24, 25, 26, 35, and 36; Township 2S, Range 4E, Sections 1, 2, 11 and 12; Township 1S, Range 5E, Sections 17, 18, 19, 20, 29, 30, 31 and 32; and Township 2S, Range 5E, Sections 5, 6, 7, and 8, in Fremont County, Wyoming. The Project Area comprises approximately 13,804 acres, of which 12,656 acres of surface and minerals belong to the Eastern Shoshone and Northern Arapaho Tribes and approximately 1,148 acres (surface and minerals) are privately owned. Devon Energy Production Company, L.P. is the lessee and project proponent.

The DEIS analyzes three alternatives, the proposed action (Alternative A), Devon's existing leases (Alternative B), and no action (Alternative C). Under Alternative A, Devon would develop coal bed natural gas (CBNG) wells and conventional gas wells on its existing leases and on additional leases it has formally requested from the JBC. If development is implemented at 40-acre spacing, a maximum of 326 CBNG wells and 20 conventional gas wells may be drilled. However, Devon anticipates that 40-acre spacing may only be necessary under certain circumstances, and that 80-acre spacing is more likely, where up to 163 CBNG wells and 20 conventional gas wells may be drilled. Construction of wells, roads, pipelines, compressor stations and power lines would disturb approximately 1,511 surface acres. After interim reclamation, approximately 680 acres would remain disturbed throughout the 20 to 40-year life of the project.

Under Alternative B, a maximum of 151 CBNG wells and 20 conventional gas wells at 40-acre spacing, or a maximum of 70 CBNG wells and 20 conventional gas wells at 80-acre spacing, may be drilled. Construction of wells, roads, pipelines, compressor stations and power lines would disturb approximately 858 surface acres. After interim reclamation, approximately 373 acres would remain disturbed throughout the 20 to 40-year life of the project.

Under Alternative C, wells would only be developed on fee surface and minerals, through individual permits issued by the Wyoming Oil and Gas Conservation Commission, on a case-by-case basis. Devon estimates that under this no action alternative, a maximum of 24 CBNG wells at 40-acre spacing and two conventional gas wells may be drilled on private minerals. If 80-acre spacing is utilized, a total of 12 CBNG wells and two conventional gas wells may be drilled.

The DEIS analyzes the potential direct, indirect, and cumulative environmental impacts of the proposed action and alternatives on geology, paleontology, minerals, climate, air quality, soil, surface water and groundwater, land use, range resources, vegetation, wetlands, noxious weeds, wildlife and fisheries, threatened and endangered species, recreation, cultural resources, socioeconomics, environmental justice, transportation, visual resources, health and safety, noise, and fire management.

Public Comment Availability

Comments, including names and addresses of respondents, will be available for public review at the mailing address shown in the ADDRESSES section during regular business hours, 7:30 a.m. to 4:30 p.m., Monday through Friday, except holidays. Individual respondents may request confidentiality. Before including your address, phone number, e-mail address, or other personal identifying information in your comment, you should be aware that your entire comment—including your personal identifying information—may be made publicly available at any time. While you can ask us in your comment to withhold your personal identifying information from public review, we cannot guarantee that we will be able to do so.

Authority

This notice is published in accordance with section 1503.1 of the Council on Environmental Quality regulations (40 CFR Parts 1500 through 1508) implementing the procedural requirements of the National Environmental Policy Act of 1969, as amended (42 U.S.C. 4321 et seq.), and the Department of Interior Manual (516 DM 1-6), and is in the exercise of authority delegated to the Assistant Secretary-Indian Affairs by 209 DM 8.1.

Dated: October 19, 2007.
Carl J. Artman,
Assistant Secretary-Indian Affairs.

[FR Doc. E7-21512 Filed 10-31-07; 8:45 am]

BILLING CODE 4310-W7-P